DEPARTMENT OF COMMERCE

Minority Business Development Agency

Agency Information Collection Activities; Submission to the Office of Management and Budget (OMB) for Review and Approval; Comment Request; Online Customer Relationship Management (CRM)/Performance Databases

AGENCY: Minority Business Development Agency (MBDA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before October 31, 2022.

ADDRESSES: Interested persons are invited to submit written comments to Ms. Andrala Walker, Chief, Grants Management, Office of Business Development, Minority Business Development Agency, U.S. Department of Commerce, 1401 Constitution Avenue NW, Washington, DC 20230 (or via the internet at awalker@doc.gov). Please reference OMB Control Number 0640-0002 in the subject line of your comments. Do not submit Confidential Business Information or otherwise sensitive or protected information.

FOR FURTHER INFORMATION CONTACT: Requests for additional information or specific questions related to collection activities should be directed to Ms. Andrala Walker, Chief, Grants Management, Office of Business Development, Minority Business Development Agency, U.S. Department of Commerce, 1401 Constitution Avenue NW, Washington, DC 20230, (202) 482-5678, and email: awalker@mbda.gov.

SUPPLEMENTARY INFORMATION:

I. Abstract

As part of its national service delivery system, MBDA awards cooperative agreements and grant awards through broad agency announcements each year to fund the provision of business development services to eligible minority business enterprises (MBEs). The recipient of each grant award is competitively selected to participate in one of the MBDA's programs. In accordance with the Government Performance and Results Act/Modernization Act (GPRA/MA), and the Foundations for Evidence-based Policymaking Act of 2018 (Evidence Act), MBDA requires all grant participants to report basic client information, service activities and progress on attainment of program goals via the Online CRM/Performance Database. The data inputs into the Online CRM/Performance Database originate from client intake forms used by each participant to collect information about each minority business enterprise that receives technical business assistance from the servicing grant participants. This data provides the baseline from which the Online CRM/Performance Database is populated. The Online CRM/Performance Database is used to regularly monitor and evaluate the progress of the MBDA programs, to provide the Department and OMB with a summary of the quantitative information required to be submitted about government supported programs, to implement the GPRA/MA, conduct program evaluation in support of the Evidence Act. This information is also summarized and included in the MBDA Annual Performance Report, which is made available to the public.

The MBDA grant programs continue to use the Online CRM/Performance Database. The client transaction and verification forms in use for the business center program are used to collect information about the effectiveness of other grant programs funded by the agency. The forms include a statement regarding MBDA's intended use and transfer of the information collected to other federal agencies for the purpose of conducting research and studies on minority businesses.

II. Method of Collection

Information will be collected manually and electronically.

III. Data

OMB Control Number: 0640-0002.

Form Number(s): None.

Type of Review: Regular submission. Revision of a currently approved collection.

Affected Public: Individuals or households; Business or other for-profit organizations; Not-for-profit institutions; State, Local, or Tribal government; Federal government.

Estimated Number of Respondents: 6,035.

Estimated Time per Response: 1 minute to 150 minutes, varies depending on instrument.

Estimated Total Annual Burden Hours: 5,032.

Estimated Total Annual Cost to Public: 0.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-18899 Filed 8-31-22; 8:45 am]

BILLING CODE 3510-21-P